DEPARTMENT OF ENERGY

Federal Energy Regulatory Commission

[Docket No. RP97-408-012]

Trailblazer Pipeline Company; Notice of Filing of Refund Report

June 1, 2000.

Take notice that on May 26, 2000, Trailblazer Pipeline Company (Trailblazer) filed a refund report in Docket No. RP97-408-000. Trailblazer states that the filing and refunds were made to comply with the Commission's Orders of April 3, 1999 and March 30, 2000. Trailblazer states that these amounts were paid by Trailblazer on April 28, 2000.

The refund report summarizes transportation refund amounts for the period January 1, 1998 through March 31, 2000 pursuant to Article II of Trailblazer's Stipulation and Agreement as approved in the Commission's April 3, 1999 Order.

Trailblazer states that the copies of its filing are being mailed to its customers, interested state commissions and all parties set out on the Commission's official service list in Docket No. RP97-408.

Any person desiring to protest said filing should file a protest with the Federal Energy Regulatory Commission, 888 First Street, NE., Washington, DC 20426, in accordance with Section 385.211 of the Commission's Rules and Regulations. All such protests must be on or before June 8, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-14228 Filed 6-6-00; 8:45 am]

BILLING CODE 6717-01-M